DEPARTMENT OF COMMERCE

National Oceanic and Atmospheric Administration

[I.D. 030602C]

Marine Mammals; File No. 1009-1640

AGENCY: National Marine Fisheries Service (NMFS), National Oceanic and Atmospheric Administration (NOAA), Commerce.

ACTION: Receipt of application.

SUMMARY: Notice is hereby given that Dr. Jerome Siegel, Neurobiology Research 151A3, 16111 Plummer St., VA GLAHS-Sepulveda, North Hills, CA 91343, has applied in due form for a permit to import tissue samples from bottlenose dolphins (Tursiops truncatus), harbor porpoise (Phocoena phocoena), common dolphins (Delphinus delphis), beluga whales (Delphinapterus leucas), and Northern fur seals (Callorhinus ursinus) from Russia, and to analyze tissue samples from captive killer whales (Orcinus orca) and bottlenose dolphins in the U.S. for purposes of scientific research.

DATES: Written or telefaxed comments must be received on or before November 29, 2002.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Amy Sloan or Ruth Johnson, (301)713-2289.

SUPPLEMENTARY INFORMATION: The subject permit is requested under the authority of the Marine Mammal Protection Act of 1972, as amended (MMPA; 16 U.S.C. 1361 et seq.) and the Regulations Governing the Taking and Importing of Marine Mammals (50 CFR part 216).

The applicant proposes three projects. The first is to investigate the anatomy and immunohistology of several structures of cetacean brains. Three bottlenose dolphin, three harbor porpoise, two common dolphin, and two beluga whale brains will be imported from Russia. Brains will be collected from animals killed during subsistence harvest or that died in fishing nets, and from dead animals stranded on shore. No animals will be deliberately killed to fulfill samples for this project. The second project involves the study of sleep in fur seals. Six seals will be caught on the Bering Island in Russia, temporarily held in captivity, implanted for polygraphic sleep studies, and euthanized. Microdialysis samples and brains of the six fur seals will be imported for anatomical studies. The third study involves the determination of hormonal and peptidergic properties of the extended waking behavior in mothers and calves of killer whales and bottlenose dolphins. Blood and urine samples from six U.S. captive killer whale mother/calf pairs and three bottlenose dolphin mother/calf pairs will be analyzed for hormone concentrations. Four bottlenose dolphins will be collected from the Black Sea in Russia, held in temporary captivity, administered hormones, and blood samples from these animals will be imported for this study. The requested duration of the permit is five years.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: October 23, 2002.
Eugene T. Nitta,
Acting Chief, Permits, Conservation and Education Division, Office of Protected Resources, National Marine Fisheries Service.

[FR Doc. 02-27507 Filed 10-28-02; 8:45 am]

BILLING CODE 3510-22-S